DEPARTMENT OF COMMERCE

International Trade Administration

[A-570-106, C-570-107]

Wooden Cabinets and Vanities and Components Thereof From the People's Republic of China: Final Scope Determination, Certification Requirements, and Recission of Circumvention Inquiries on the Antidumping and Countervailing Duty Orders; Correction

AGENCY: Enforcement and Compliance, International Trade Administration, Department of Commerce.

ACTION: Notice; correction.

SUMMARY: The U.S. Department of Commerce (Commerce) published a notice in the Federal Register of July 17, 2024, in which Commerce implemented a certification regime. This notice did not correctly state the grace period for parties to certify wooden cabinets and vanities and components thereof (wooden cabinets) shipped prior to the publication of the Federal Register Notice.

FOR FURTHER INFORMATION CONTACT: Michael Romani, AD/CVD Operations, Office I, Enforcement and Compliance, International Trade Administration, U.S. Department of Commerce, 1401 Constitution Avenue NW, Washington, DC 20230; telephone: (202) 482-0198.

SUPPLEMENTARY INFORMATION:

Background

On July 17, 2024, Commerce published in the Federal Register the final scope determinations, certification requirements, and recission of circumvention inquiries on the antidumping and countervailing duty orders on wooden cabinets.¹ In that notice, Commerce did not correctly describe the grace period for goods that were shipped before the implementation of the certification regime in the text, although this was alluded to in the importer and exporter appendices. Additionally, Commerce did not explain that entries accompanied by the appropriate certification documentation do not require suspension of liquidation or cash deposits.

¹ See Wooden Cabinets and Vanities and Components Thereof from the People's Republic of China: Final Scope Determination, Certification Requirements, and Rescission of Circumvention Inquiries on the Antidumping and countervailing Duty Orders, 89 FR 58110 (July 17, 2024).

Correction

In the Federal Register of July 17, 2024, in FR Doc 2024-15681, on page 58111, in the second column, correct the text in the first full paragraph by adding the following sentence to the end of the paragraph: “For entries accompanied by a certification, no suspension of liquidation or cash deposits are required.” The corrected paragraph is attached to this notice as Appendix I.

In addition, in the Federal Register of July 17, 2024, in FR Doc 2024-15681, on page 58112, in the second column, correct the third paragraph under the “Certification Requirements for Malaysia and Vietnam” by inserting the following sentence at the end of the paragraph: “Note: For merchandise shipped within 45 days of the date of the publication of this Federal Register notice (i.e., 07/17/2024), the certification requirements should be met as soon as practicable, but no later than 8/31/2024.”

Additionally, in the Federal Register of July 17, 2024, in FR Doc 2024-15681, on page 58113, in Appendix II, at paragraph N. of the Importer Certification, and on page 58114 in Appendix III at paragraph K. of the Exporter Certification, correct the language in each appendix to state: “within 45 days of the date of publication of this notice in the Federal Register.” The corrected paragraphs are attached to this notice as Appendix II.

Notification to Interested Parties

This notice is issued and published in accordance with sections 781(b) and 777(i) of the Tariff Act of 1930, as amended, 19 CFR 351.225(h), 19 CFR 351.226(f)(6), and 19 CFR 351.228.

Dated: July 30, 2024.
Ryan Majerus,
Deputy Assistant Secretary for Policy and Negotiations, performing the non-exclusive functions and duties of the Assistant Secretary for Enforcement and Compliance.

Appendix I

Continuation of Suspension of Liquidation in Accordance With Final Scope Ruling

Specifically, if an importer of wooden cabinets from Malaysia or Vietnam claims that the wooden cabinet was not produced using Scenarios 1, 2, or 3, then the importer and exporter must meet the certification and documentation requirements described in Appendices II and III. An exporter of wooden cabinets in Malaysia or Vietnam claiming its wooden cabinet were not produced using the Chinese wooden cabinet input scenarios subject to these inquiries must prepare and maintain an Exporter Certification and documentation supporting the Exporter Certification (see Appendix III). In addition, importers of such wooden cabinets must prepare and maintain an Importer Certification (see Appendix II) and documentation supporting the Importer Certification. Further, the importer must also maintain a copy of the Exporter Certification and relevant supporting documentation from its exporter of wooden cabinets in Malaysia or Vietnam that were not produced using any of the Chinese wooden cabinet input scenarios subject to these inquiries. For entries accompanied by a certification, no suspension of liquidation or cash deposits are required.

Appendix II

Certification Requirements for Malaysia and Vietnam

Exporters are required to complete and maintain the applicable exporter certification and provide the importer with a copy of that certification and all supporting documentation (e.g., invoice, purchase order, production records, etc.) Except for the entries described below, the exporter certification must be completed, signed, and dated by the time of shipment of the relevant entries. The exporter certification should be completed by the party selling wooden cabinets assembled in Malaysia to the United States. Note: For merchandise shipped within 45 days of 07/17/2024, the certification requirements should be met as soon as practicable, but no later than 8/31/2024.

Importer Certification

N. This certification was completed by the time of filing the entry summary or within 45 days of the date of publication of this notice in the Federal Register.

Exporter Certification

K. This certification was completed at the time of shipment or within 45 days of the date of publication of this notice in the Federal Register.

[FR Doc. 2024-17165 Filed 8-2-24; 8:45 am]

BILLING CODE 3510-DS-P